DEPARTMENT OF THE INTERIOR

Fish and Wildlife Service

Emergency Exemption: Issuance of Permit for Endangered Species

AGENCY: Fish and Wildlife Service, Interior.

ACTION: Notice of emergency issuance of permit for endangered species.

SUMMARY: The following permit was issued.

ADDRESSES: Documents and other information submitted for this application are available for review, subject to the requirements of the Privacy Act and Freedom of Information Act, by any party who submits a written request for a copy of such documents to: U.S. Fish and Wildlife Service, Division of Management Authority, 4401 North Fairfax Drive, Room 700, Arlington, Virginia 22203, telephone (703) 358-2104 or fax (703) 358-2281.

FOR FURTHER INFORMATION CONTACT: Division of Management Authority, telephone (703) 358-2104.

SUPPLEMENTARY INFORMATION: On May 10, 2004, the U.S. Fish and Wildlife Service (Service) re-issued a permit (PRT-011646) to the Kootenai Tribe of Idaho, Bonners Ferry, ID, to export white sturgeon (Acipenser transmontanus) fertilized eggs from a spawning and rearing facility in Bonners Ferry, Idaho to the Kootenary Trout Hatchery in Fort Steele, British Columbia, as advised in the USFWS White Sturgeon Recovery Team Plan for the purpose of enhancement of the survival of the species through conservation and propagation. This notification covers activities conducted by the applicant over a five year period. This action was authorized under Section 10(c) of the Endangered Species Act of 1973, as amended (16 U.S.C. 1531, et seq.). The Service determined that an emergency affecting the health of the Kootenai River white sturgeon population existed, and that no reasonable alternative was available to the applicant for the following reasons.

The Kootenai Tribe of Idaho requested re-issuance of a permit (PRT-011646) to export multiple shipments of white sturgeon (Acipenser transmontanus) fertilized eggs from a spawning and rearing facility in Bonners Ferry, Idaho to the Kootenary Trout Hatchery in Fort Steele, British Columbia, an action addressed in the white sturgeon recovery plan. This action is taken to protect against the loss of the entire hatchery and/or wild stock due to natural or man-made catastrophic events. This permit was issued as an emergency action in order to accommodate the white sturgeon's spawning season.

Dated: May 10, 2004.
Monica Farris,
Senior Permit Biologist, Branch of Permits, Division of Management Authority.

[FR Doc. 04-12122 Filed 5-27-04; 8:45 am]

BILLING CODE 4310-55-P